NUCLEAR REGULATORY COMMISSION

[Docket 72-1050; NRC-2016-0231]

Waste Control Specialists LLC's Consolidated Interim Spent Fuel Storage Facility

AGENCY: U.S. Nuclear Regulatory Commission.

ACTION: Environmental impact statement; extension of scoping comment period; additional public scoping comment meeting.

SUMMARY: The U.S. Nuclear Regulatory Commission (NRC) requested public comments on the scope of NRC's environmental impact statement (EIS) for the Waste Control Specialists LLC (WCS) proposed consolidated interim storage facility (CISF) for spent nuclear fuel, to be located on WCS' site in Andrews County, Texas. The public scoping period closed on March 13, 2017. The NRC has decided to re-open the public scoping period to allow more time for members of the public to develop and submit their comments. The NRC also has scheduled an additional meeting where members of the public may present comments to the NRC.

DATES: Comments should be filed no later than April 28, 2017. Comments received after this date will be considered, if it is practical to do so, but the NRC is able to ensure consideration only for comments received on or before that date.

ADDRESSES: You may submit comments by any of the following methods:

• Federal Rulemaking Web site: Go to http://www.regulations.gov and search for Docket ID NRC-2016-0231. Address questions about NRC dockets to Ms. Carol Gallagher; telephone: 301-415-3463; email: Carol.Gallagher@nrc.gov. For technical questions, contact the individual listed in the FOR FURTHER INFORMATION CONTACT section of this document.

• Mail comments to: Ms. Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: James Park, Office of Nuclear Material Safety and Safeguards, U.S. Nuclear Regulatory Commission, Washington DC, 20555-0001; telephone: 301-415-6954; or email: James.Park@nrc.gov.

SUPPLEMENTARY INFORMATION:

I. Obtaining Information and Submitting Comments

A. Obtaining Information

Please refer to Docket ID NRC-2016-0231 when contacting the NRC about the availability of information for this action. You may obtain publicly-available information related to this action by any of the following methods:

• Federal Rulemaking Web site: Go to http://www.regulations.gov and search for Docket ID NRC-2016-0231.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at: 1-800-397-4209, 301-415-4737, or via email to: pdr.resource@nrc.gov. Documents related to WCS' license application can be found under Docket Number 72-1050.

• NRC's PDR: You may examine and purchase copies of public documents at the NRC's PDR, Room O1-F21, One White Flint North, 11555 Rockville Pike, Rockville, Maryland 20852.

• Project Web page: Information related to the WCS CISF project, including the WCS license application, can be accessed on the NRC's WCS CISF Web page at: http://www.nrc.gov/waste/spent-fuel-storage/cis/waste-control-specialist.html.

B. Submitting Comments

Please include Docket ID NRC-2016-0231 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On November 14, 2016, the NRC published in the Federal Register (81 FR 79531), a notice of its intent to prepare an EIS on WCS' proposed CISF for spent nuclear fuel and requested public comments on the scope of the EIS. The NRC published a second notice on January 30, 2017 (82 FR 8771), that set March 13, 2017, as the closing date for the scoping period. The NRC has received scoping comments that requested an extension of time. While the NRC is still in the process of reviewing comments received, it appears that most of these extension requests seek a 90-day extension to the scoping period. After considering these requests, the NRC has decided to re-open the scoping period to allow more time for members of the public to develop and submit their comments. Comments should be submitted by April 28, 2017, to ensure consideration.

The NRC also will hold an additional public scoping meeting at the NRC headquarters in Rockville, Maryland, on Thursday, April 6, 2017. Persons interested in attending this meeting should check the NRC's Public Meeting Schedule Web page at https://www.nrc.gov/pmns/mtg for the time and agenda for the meeting. The NRC is planning to transmit the public meeting via webcast and to provide a telephone bridge line for members of the public who cannot attend the meeting in person.

Dated at Rockville, Maryland, this 9th day of March 2017.
For the U.S. Nuclear Regulatory Commission.
Brian W. Smith,
Deputy Director, Division of Fuel Cycle Safety, Safeguards, and Environmental Review, Office of Nuclear Material Safety and Safeguards.

[FR Doc. 2017-05294 Filed 3-15-17; 8:45 am]

BILLING CODE 7590-01-P